DEPARTMENT OF DEFENSE

Office of the Secretary

[Transmittal No. 19-0J]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0J with attached Policy Justification.

Dated: November 27, 2019.
Aaron T. Siegel,
Alternate OSD Federal Register Liaison Officer, Department of Defense.

Transmittal No.: 19-0J

REPORT OF ENHANCEMENT OR UPGRADE OF SENSITIVITY OF TECHNOLOGY OR CAPABILITY (SEC. 36(B)(5)(C), AECA)

(i) Prospective Purchaser: Qatar

(ii) Sec. 36(b)(1), AECA Transmittal No.: 18-43

Date: 27 November 2018

Military Department: Air Force

(iii) Description: On November 27, 2018, Congress was notified by Congressional certification transmittal number 18-43 of the possible sale, under Section 36(b)(1) of the Arms Export Control Act, of forty (40) AIM-120C-7 Advanced Medium Range Air-to-Air Missiles (AMRAAM) and one (1) spare AIM-120C-7 AMRAAM Guidance Section. Also included were one (1) spare AIM-120C-7 control section, eight (8) AMRAAM Captive Air Training Missile (CATM-120C), missile containers, classified software for the AN/MPQ-64F1 Sentinel Radar, spare and repair parts, cryptographic and communication security devices, precision navigation equipment, other software, site surveys, weapons system equipment and computer software support, publications and technical documentation, common munitions and test equipment, repair and return services and equipment, personnel training and training equipment, integration support and test equipment, and U.S. Government and contractor, engineering, technical and logistics support services, and other related elements of logistical and program support. The estimated total cost was $215 million. Major Defense Equipment * (MDE) constituted $95 million of this total. This proposed sale was in support of Qatar's procurement of the National Advanced Surface to Air Missile System (NASAMS) via Direct Commercial Sale (DCS).

This transmittal reports the inclusion of up to eighty additional (80) AIM-120C-7 missiles, one hundred twenty (120) AIM-120C-7 ER missiles, thirteen (13) Multifunction Information Distribution System Low Volume Terminal (MIDS-LVT) Block Upgrade 2, and associated materiel, support, and services. These additional MDE items will result in an increase in MDE cost of $461 million, for a total MDE value of $556 million. Non-MDE cost will increase by $16 million. Total case value will increase to $692 million.

(iv) Significance: This notification is being provided as these additional missiles represent an increase in capability over what was previously notified. This equipment meets Qatar's requirements for a NASAMS capability providing a full range of protection from imminent hostile cruise missile, unmanned aerial vehicle, rotary wing, and fixed wing threats. The MIDS-LVT BU2 will contribute to the crypto capability of the NASAMS to enable Qatar's self-defense capabilities, and enhance its interoperability with the United States and regional partners.

(v) Justification: This proposed sale supports the foreign policy and national security objectives of the United States by helping improve the security of a key partner that has been, and continues to be, a significant host and member of coalition forces in the Middle East.

(vi) Sensitivity of Technology: The Sensitivity of Technology Statement contained in the original notification applies to the AIM-120C-7 missiles. The AIM-120C-7 ER missiles have the same capability and sensitivity of technology as the AIM-120C-7 but with a larger rocket motor to allow it to travel further. The MIDS LVT BU2 is classified CONFIDENTIAL and is a secure data and voice communication network using the Link-16 architecture. The system provides enhanced situational awareness, positive identification of participants within the network, and secure voice capability. The system provides the critical ground link for simultaneous coordination of air, land, and maritime forces.

(vii) Date Report Delivered to Congress: October 1, 2019

* As defined in Section 47(6) of the Arms Export Control Act.

[FR Doc. 2019-26166 Filed 12-3-19; 8:45 am]

BILLING CODE 5001-06-P